SOCIAL SECURITY ADMINISTRATION

Privacy Act of 1974 as Amended; Computer Matching Program (Model SSA/State Courts) Match Number 1091

AGENCY: Social Security Administration (SSA).

ACTION: Notice of computer matching program.

SUMMARY: In accordance with the provisions of the Privacy Act, as amended, this notice announces a computer matching program that SSA plans to conduct with State Courts.

DATES: SSA will file a report of the subject matching program with the Committee on Governmental Affairs of the Senate, the Committee on Government Reform and Oversight of the House of Representatives, and the Office of Information and Regulatory Affairs, Office of Management and Budget (OMB). The matching program will become effective as indicated above.

ADDRESSES: Interested parties may comment on this notice by either telefax to (410) 966-2935 or writing to the Associate Commissioner, Office of Program Support, 2-Q-16 Operations, 6401 Security Boulevard, Baltimore, MD 21235-6401. All comments received will be available for public inspection at this address.

FOR FURTHER INFORMATION CONTACT: The Associate Commissioner for Program Support as shown above.

SUPPLEMENTARY INFORMATION:

A. General

The Computer Matching and Privacy Protection Act of 1988 (Public Law (Pub. L.) 100-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals. The Privacy Act, as amended, regulates the use of computer matching by Federal agencies when records in a system of records are matched with other Federal, State, or local government records.

It requires agencies involved in computer matching programs to:

(1) Negotiate written agreements with the other agency or agencies participating in the matching programs;

(2) Obtain the Date Integrity Boards' approval of the match agreements;

(3) Furnish detailed reports about matching programs to Congress and OMB;

(4) Notify applicants and beneficiaries that their records are subject to matching; and

(5) Verify match findings before reducing, suspending, terminating, or denying an individual's benefits or payments.

B. SSA Computer Matches Subject to the Privacy Act

We have taken action to ensure that all of SSA's computer matching programs comply with the requirements of the Privacy Act, as amended.

Dated: July 13, 2000.
Susan M. Daniels,
Deputy Commissioner for Disability and Income Security Programs.

Notice of Computer Matching Program, State Courts With the Social Security Administration (SSA)

A. Participating Agencies

SSA and State Courts.

B. Purpose of the Matching Program

To identify individuals who are subject to the title II benefit nonpayment on section 202(x)(1) of the Social Security Act (the Act) affecting prisoners and certain other individuals in the programs administered by SSA and/or are subject to the title XVI supplemental security income (SSI) restrictions in section 1611(e)(1)(A) of the Act applicable to individuals in public institutions under the SSI program which provides payments to recipients with income and resources at or below levels established by law and regulations, and/or are subject to the above provisions of the Act applicable to individuals serving as representative payees on behalf of other entitled beneficiaries.

The matching program is designed to apply to prisoners covered by section 202(x)(1)(A)(i); i.e., individuals confined pursuant to a conviction for an offense punishable by imprisonment for more than a year, regardless of the actual sentence imposed, and any affected individuals covered by the above reference representative payee provisions.

Also included within the terms of this agreement are any other confined individuals covered by the provisions of section 202(x)(1)(A)(ii) and individuals residing in public institutions and are covered by section 1611(e)(1)(A).

C. Authority for Conducting the Matching Program

Under the matching program, SSA will obtain data provided by State Courts under the authority of sections 202(x)(1), 202(x)(3), 1611(e)(1)(A), 1631(e)(1)(B) and 1631(f) of the Social Security Act, codified at 42 U.S.C. §§ 402(x)(1), 402(x)((3), 1382(e)(1)(A), 1383(e)(1)(B) and 1383(f).

D. Categories of Records and Individuals Covered by the Matching Program

On the basis of certain identifying information as provided by SSA to State Courts, State Courts will provide SSA with electronic files containing prisoner data. SSA will then match the Court Agency data with title II and XVI payment information maintained in the Master Beneficiary Record SSA/OSR 60-0090, the Supplemental Security Income Record SSA/OSR 60-0103, the Master File of Social Security Number Holders and SSN Applications SSA/OSR 60-0058, and the Master Representative Payee File SSA/ORSI 60-0222 systems of records.

E. Inclusive Dates of the Match

The matching program shall become effective no sooner than 40 days after notice for the program is sent to Congress and OMB, or 30 days after publication of this notice in the Federal Register, whichever date is later. The matching program will continue for 18 months from the effective date and may be extended for an additional 12 months thereafter, if certain conditions are met.

[FR Doc. 00-18949 Filed 7-26-00; 8:45 am]

BILLING CODE 4190-29-M